DEPARTMENT OF ENERGY

Federal Energy Regulatory Commission

[Docket No. CP01-49-003]

Northwest Pipeline Corporation; Notice of Amendment

September 3, 2003.

Take notice that on August 22, 2003, Northwest Pipeline Corporation (Northwest), 295 Chipeta Way, Salt Lake City, Utah 84158, filed in Docket No. CP01-49-003, an amendment to the pending application filed June 25, 2003, pursuant to sections 7(b) and (c) of the Natural Gas Act (NGA), as amended, and part 157 of the regulations of the Federal Energy Regulatory Commission (Commission), for authorization to amend the certificate of public convenience and necessity that was issued for its “Everett Delta Lateral Project” project by Commission order dated October 25, 2001 in Docket Nos. CP01-49-000 and CP01-49-001 and to request related permission and approval for pre-granted abandonment, all as more fully set forth in the amendment which is on file with the Commission and open to public inspection. This filing is available for review at the Commission or may be viewed on the Commission's Web site at http://www.ferc.gov using the eLibrary (FERRIS) link. Enter the docket number excluding the last three digits in the docket number field to access the document. For assistance, please contact FERC Online Support at FERCOnlineSupport@ferc.gov or toll-free at (866) 208-3676, or for TTY, contact (202) 502-8659.

Northwest states that by this amendment to the pending amended application, Northwest requests that the Commission approve the Holly Lane Reroute between mileposts 1.16 and 1.78 in Snohomish County, Washington of the proposed Everett Delta Lateral in lieu of the originally proposed crossing of Catherine Creek by horizontal directional drill between mileposts 1.2 and 1.52.

Any questions concerning this amendment may be directed to Gary K. Kotter, Manager, Certificates and Tariffs, Northwest Pipeline corporation, P. O. Box 58900, Salt Lake City, Utah 84158-0900, at (801) 584-7117 or fax (801) 584-7764.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

Comment Date: September 24, 2003.

Magalie R. Salas,
Secretary.

[FR Doc. 03-22864 Filed 9-8-03; 8:45 am]

BILLING CODE 6717-01-P